ENVIRONMENTAL PROTECTION AGENCY

40 CFR Part 63

[FRL-7100-5]

Delegation of National Emission Standards for Hazardous Air Pollutants for Source Categories; State of Arizona; Arizona Department of Environmental Quality

AGENCY: Environmental Protection Agency (EPA).

ACTION: Proposed rule.

SUMMARY: Pursuant to section 112(l) of the 1990 Clean Air Act, EPA granted delegation of specific national emission standards for hazardous air pollutants (NESHAPs) to the Arizona Department of Environmental Quality on March 5, 2001. In the Rules section of this Federal Register, EPA is amending regulations to reflect the current delegation status of NESHAPs in Arizona. EPA is taking direct final action without prior proposal because the Agency views this as a noncontroversial action and anticipates no adverse comments. A detailed rationale for this approval is set forth in the direct final rule. If no adverse comments are received, no further activity is contemplated. If EPA receives adverse comments, the direct final rule will be withdrawn and all public comments received will be addressed in a subsequent final rule based on this proposed rule. The EPA will not institute a second comment period. Any parties interested in commenting should do so at this time.

DATES: Written comments must be received by December 17, 2001.

ADDRESSES: Written comments should be addressed to: Andrew Steckel, Rulemaking Office (AIR-4), Air Division, U.S. Environmental Protection Agency, Region IX, 75 Hawthorne Street, San Francisco, CA 94105-3901.

Copies of the submitted requests are available for public inspection at EPA's Region IX office during normal business hours (docket number A-96-25).

FOR FURTHER INFORMATION CONTACT: Mae Wang, Rulemaking Office (AIR-4), Air Division, U.S. Environmental Protection Agency, Region IX, 75 Hawthorne Street, San Francisco, CA 94105-3901, Telephone: (415) 744-1200.

SUPPLEMENTARY INFORMATION: This document concerns the delegation of unchanged NESHAPs to the Arizona Department of Environmental Quality. For further information, please see the information provided in the direct final action which is located in the Rules section of this Federal Register.

Authority: This action is issued under the authority of section 112 of the Clean Air Act, as amended, 42 U.S.C. 7412.

Dated: October 30, 2001.
Jack P. Broadbent,
Director, Air Division, Region IX.

[FR Doc. 01-28343 Filed 11-15-01; 8:45 am]

BILLING CODE 6560-50-P